DEPARTMENT OF JUSTICE

Antitrust Division

Notice Pursuant to the National Cooperative Research and Production Act of 1993—VSI Alliance

Notice is hereby given that, on October 8, 1999, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, O-In Design Automation, Inc., San Jose, CA; Arasan Chip Systems, San Jose, CA; Axys Design Automation, Inc., Irvine, CA; Guy Bois, Montreal, Quebec, Canada; Communications Enabling Technologies, Irvine, CA; Desideratum Company, Moscow, Russia; Enabling Technology, Inc., Sunnyvale, CA; David Greenstein, Cupertino, CA; In-Chip Systems, Inc., Sunnyvale, CA; Industrial Technology Research Institute, Taiwan; Institute of System Level Integration, Livingston, United Kingdom; LEDA Systems, Inc., Plano, TX; Minoru Hasegawa, Tokyo, Japan; Mixel, Inc., San Jose, CA; PIXIM, Mountain View, CA; Q Systems, Inc., Feasterville, PA; RealChip, Sunnyvale, CA; Synplicity, Inc., Sunnyvale, CA; Teradyne, Inc., Agoura Hills, CA; and X-VEIN, Inc., Tokyo, Japan have been added as parties to this venture. Also, AMS Group International, Unterpremstatten, Austria; Chronology Corp., Redmond, WA; DSP Group, Herzlia, Israel; Henry Davis Consulting, Inc., Soquel, CA; IDEC-IC Design Education Center, Taejon, South Korea; Integrated Intellectual Property, Inc., Santa Clara, CA; LightSpeed Semiconductor Corp., Sunnyvale, CA; Packet Engines, Inc., Spokane, WA; Richard Watts Associated, Ltd., Bedfordshire, United Kingdom; Scientific & Engineering Software, Inc., Austin, TX; Technical Data Freeway, Inc., Concord, MA; Trimble Navigation Limited, Sunnyvale, CA have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to section 6(b) of the Act on March 4, 1997 (62 FR 9812).

The last notification was filed with the Department on July 14, 1999. A notice was published in the Federal Register pursuant to section 6(b) of the Act on December 2, 1999 (64 FR 67592).

Constance K. Robinson,
Director of Operations, Antitrust Division.

[FR Doc. 00-17407 Filed 7-10-00; 8:45 am]

BILLING CODE 4410-11-M